DEPARTMENT OF STATE

[Public Notice 4596]

Bureau of Educational and Cultural Affairs; Middle East Partnership Initiative (MEPI) Study of the United States Institute for Graduating High School Seniors; Notice: Request for Grant Proposals (RFGP)

SUMMARY: The Study of the U.S. Branch, Office of Academic Exchange Programs, Bureau of Educational and Cultural Affairs, announces an open competition for public and private non-profit organizations meeting the provisions described in IRS regulation 26 U.S.C. 501(C)(3) to develop and implement a “Middle East Partnership Initiative Study of the United States Institute for Graduating High School Seniors,” designed for exemplary students from the Middle East and North Africa who will have completed their final year of high school(or equivalent) by summer 2004 and be preparing to commence their undergraduate studies in the fall. Funding for this institute is being provided by the Department of State's Middle East Partnership Initiative (MEPI). Pending availability of funding and subject to the quality of proposals received, it is the Bureau's intention to award one grant for this project. The Bureau is also currently publishing a separate RFGP soliciting proposals for up to two grants for counterpart MEPI-funded institutes targeting first and second year undergraduate student leaders from the Middle East/North Africa. Important Note: This Request for Grant Proposals contains language in the “Shipment and Deadline for Proposals” section that is significantly different from that used in the past. Please pay special attention to procedural changes as outlined.

The “Middle East Partnership Initiative Study of the United States Institute for Recent High School Graduates” is intended to provide a group of 21 highly motivated graduating high school seniors from the Middle East and North Africa with a five-week academic seminar and a limited U.S. regional travel component that will give them a deeper understanding of U.S. society, culture, values and institutions, past and present, while at the same time assisting these young people to further develop their leadership potential and collective problem-solving skills. The grant award will also partially support a follow-on workshop to be held at a site in the Middle East or North Africa. Program participants will be identified and nominated by U.S. embassies and consulates and drawn from the following countries/entities: Algeria; Bahrain; Egypt; Israel; Iraq; Jordan; Kuwait; Lebanon; Morocco; Oman; Qatar; Saudi Arabia; Syria; United Arab Emirates; Syria; Tunisia; West Bank/Gaza; Yemen. [Note: Israeli participants will be Arab-Israelis only.]

The program will be five weeks in length and will be conducted during the summer of 2004. The follow-on workshop will be conducted approximately six to twelve months after the U.S.-based program. The grant award will be for up to two years.

The Bureau is seeking detailed proposals from U.S. colleges, universities, consortia of colleges and universities, and other not-for-profit academic organizations that have an established reputation in one or more of the following fields: political science, international relations, law, history, sociology, American studies, and/or other disciplines or sub-disciplines related to the study of the United States.

The project director or one of the key program staff responsible for the academic program must have an advanced degree in one of the fields listed above. Staff escorts traveling under the cooperative agreement must have demonstrated qualifications for this service. U.S. student mentors or facilitators, if engaged to assist in the project implementation, must be mature, knowledgeable about the United States and also have international experience or knowledge of the Middle East/North Africa region. Programs must conform with Bureau requirements and guidelines outlined in the Solicitation Package. Bureau programs are subject to the availability of funds.

Applicant institutions must demonstrate expertise in conducting academic programs for foreign students, and must have a minimum of four years experience in conducting international exchange programs. Bureau guidelines stipulate that grants to organizations with less than four years experience in conducting international exchanges are limited to $60,000. As it is expected that the budget for these programs will exceed $60,000, organizations that can not demonstrate at least four years experience will not be eligible to apply under this competition.

Program Information

Overview and Objectives: The Bureau of Educational and Cultural Affairs' (ECA) “Study of the United States Institutes” are academic seminars designed to provide multinational groups of foreign participants with a deeper understanding of U.S. society and institutions. Their ultimate objective is to promote a better appreciation of the people, culture and values of the United States.

The Middle East Partnership Initiative Study of the United States Institute for Graduating High School Seniors should be five weeks in length and must include an academic residency segment of at least twenty-five (25) days duration that takes place at a U.S. college or university campus (or other appropriate location). A domestic travel component of not more than ten (10) days, including 3-4 days in Washington, DC, should also be planned. This travel component should directly complement the academic residency segment. It should include visits to cities and other sites of interest in the region of the host institution. All institutes must conclude with a 3-4 day program in Washington, DC.

The Bureau will work closely with the grantee organization and with U.S. embassies abroad to organize an alumni workshop for participants in this program at a site to be determined in the Middle East/North Africa region within six-twelve months after the conclusion of the institute.

The institute should be designed as an intensive, academically rigorous seminar intended for a group of highly motivated students from the Middle East and North Africa who will have completed their high school studies by the summer of 2004, and who will be commencing undergraduate studies in the fall. The institute curriculum should give roughly equal weight to study of the United States (efforts to promote a deeper understanding of U.S. society, culture, values and institutions, past and present) and to leadership development/teambuilding sessions and exercises. The institute should be organized through an integrated series of lectures, readings, seminar discussions, experiential learning exercises, regional travel, and site visits. It should also include opportunities for participants to meet American citizens from a variety of backgrounds, to interact with peers, and to speak to appropriate student and civic groups about their experiences and life in their home countries.

Applicants are encouraged to design thematically coherent programs in ways that draw upon the particular strengths, faculty and resources of their institutions as well as upon the nationally recognized expertise of scholars and other experts throughout the United States. Within the limits of their thematic focus and organizing framework, Institute programs should also be designed to:

1. Bring an interdisciplinary or multi-disciplinary focus to bear on the program content, if appropriate;

2. Give participants a multi-dimensional view of U.S. society and institutions that includes a broad and balanced range of perspectives. Where possible, programs should therefore include the views not only of scholars, cultural critics and public intellectuals, but also those of other professionals outside the university such as government officials, journalists and others who can substantively contribute to the topics at issue; and,

3. Insure access to library and material resources that will enable grantees to continue their studies and conduct research upon returning to their home institutions.

Program Description: The “MEPI Study of the United States Institutes for Graduating High School Seniors” should provide a group of 21 recent high school graduates from selected countries in the Middle East and North Africa with an integrated and imaginatively designed academic seminar and limited U.S. domestic travel component. The principal objective of the institute is to illuminate the history and evolution of U.S. society, culture, values and institutions, broadly defined, so that participants develop an appreciation of the United States. In this context, the institute should focus on contemporary American life, including current political, social, and economic issues and debates. The concepts of individual and civic responsibility, volunteerism and community involvement should be highlighted. The role and influence of principles and values such as democracy, the rule of law, individual rights, freedom of expression, equality, diversity and tolerance should be addressed.

In addition to promoting a better understanding of the United States, an important subsidiary objective of the institute is to help develop the participants' leadership and collective problem-solving capacities and skills. In this context, the program should include lectures as well as group discussions and exercises focusing on such topics as the essential attributes of leadership, developing effective communication and problem-solving skills, and managing change in different organizational settings. The host institutions will also be expected to provide participants post-program opportunities for further investigation and research on the topics and issues examined and discussed during the institute.

Participants: The participants will be highly motivated and exemplary graduating high school seniors or equivalent who have recently completed secondary school in their home country, and who demonstrate leadership through academic work, community involvement, and extracurricular activities. Participants will be preparing to enter university in their home country upon conclusion of the program. The students will be recruited from Algeria, Bahrain, Egypt, Iraq, Israel, Jordan, Kuwait, Lebanon, Morocco, Oman, Qatar, Saudi Arabia, Syria, Tunisia, the United Arab Emirates, the West Bank and Gaza, and Yemen [Note: Israeli participants will be Arab-Israelis only.] Participants will be identified and nominated by U.S. embassies and consulates in those countries, with final selection made by ECA's Study of the U.S. Branch in consultation with the Office of Middle East Partnership Initiative (MEPI). A mix of male and female participants will be included, and a mix of religious and cultural backgrounds represented. All participants will be conversant in English.

This project addresses the MEPI goals of fostering political reform, educational reform and empowerment of women in MEPI partner countries. As participants will be selected in large part on the basis of their demonstrated leadership capacity, they will utilize the experience derived from the program in future positions of stewardship in their home countries.

Program Guidelines: While the conception and structure of the institute program is the responsibility of the organizers, it is critically important that proposals provide a full, detailed and comprehensive narrative describing the objectives of the institute; the title, scope and content of each session; and, how each session relates to the overall institute theme. A syllabus should be included that indicates the subject matter for each lecture, panel discussion or other activity (e.g., group exercises), confirms or provisionally identifies proposed lecturers and session leaders, and clearly shows how assigned readings will support each session. A calendar of all program activities must also be included. Additionally, applicant institutions should describe their plans for public and media outreach in connection with the program.

Budget Guidelines: Based on a group of 21 participants, the total Bureau-funded budget (program and administrative) for the program should be approximately $340,000. Justifications for any budget in excess of this amount must be clearly indicated in the proposal submission. Proposals should try to maximize cost-sharing in all facets of the program and to stimulate U.S. private sector, including foundation and corporate, support. Applicants must submit a comprehensive budget for the entire program. The Bureau reserves the right to reduce, revise, or increase proposal budgets in accordance with the needs of the program, and availability of U.S. government funding.

Please refer to the “POGI” document in the Solicitation Package for complete institute budget guidelines and formatting instructions.

Announcement Name and Number: All communications with the Bureau concerning this announcement should refer to the following titles and reference numbers:

Middle East Partnership Initiative Study of the United States Institutes for Graduating High School Seniors (ECA/A/E/USS-04-08-Benda)

FOR FURTHER INFORMATION CONTACT: To obtain more information about these programs, or to request a Solicitation Package containing more detailed program information, award criteria, required application forms, specific budget instructions, and standard guidelines for proposal preparation, applicants should contact:

U.S. Department of State, Bureau of Educational and Cultural Affairs, Office of Academic Exchange Programs, Study of the U.S. Branch, State Annex 44, ECA/A/E/USS—Room 252, 301 4th Street SW., Washington, DC 20547,

Attention: Peter Benda.

Telephone number: (202) 619-5893.

Fax number: (202) 619-6790.

Internet address: BendaPM@state.gov.

The Study of the U.S. Branch is available to consult with potential applicants regarding proposal content and preparation up until the proposal submission deadline. Please specify Program Officer Peter Benda on all inquiries and correspondence. Interested applicants should read the complete Federal Register announcement before addressing inquiries to the office listed above or submitting their proposals. Once the RFGP deadline has passed, Bureau staff may not discuss this competition in any way with applicants until after the proposal review process has been completed.

To Download a Solicitation Package via Internet: The entire Solicitation Package may be downloaded from the Bureau's Web site at http://exchanges.state.gov/education/rfgps/. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals

Important Note: The deadline for this competition is March 12, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shopped after the established deadline are ineligible for consideration under this competition. It is each applicant's responsibility to ensure that each package is marked with a legible tracking number and to monitor/confirm delivery via the Internet. Delivery of proposal packages may not be made via local courier service or in person for this competition. Faxed documents will not be accepted at any time.

Submissions: Applicants must follow all instructions in the Solicitation Package. The original and 10 copies of the complete application should be sent to: U.S. Department of State, Bureau of Educational and Cultural Affairs, Reference: ECA/A/E/USS-04-08-Benda, Program Management Staff, ECA/EX/PM, Room 534, State Annex 44, 301 4th Street, SW., Washington, DC 20547.

Applicants should also submit the “Executive Summary” and “Proposal Narrative” sections of the proposal in text (.txt) format on a PC-formatted disk. If possible, please also include on the disk any program calendar or syllabus addendum to the proposal.

Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of this goal in their program contents, to the full extent deemed feasible.

Adherence to all Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR Part 62, including the oversight of Responsible Officers and Alternate Responsible Officers, screening and selection of program participants, provision of pre-arrival information and orientation to participants, monitoring of participants, proper maintenance and security of forms, record-keeping, reporting and other requirements. ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

Review Process: The Bureau will acknowledge receipt of all proposals and will review them for technical eligibility. Proposals will be deemed ineligible if they do not fully adhere to the guidelines stated herein and in the Solicitation Package. All eligible proposals will be reviewed by the ECA program office in consultation with the Office of Middle East Partnership Initiative (MEPI). Eligible proposals will then be forwarded to panels of Bureau officers for advisory review. Proposals may also be reviewed by the Office of the Legal Advisor or by other Bureau elements. Final funding decisions are at the discretion of the Department of State's Assistant Secretary for Educational and Cultural Affairs. Final technical authority for assistance awards (grants or cooperative agreements) resides with the Bureau's Grants Officer.

Review Criteria: Technically eligible applications will be competitively reviewed according to the criteria stated below. More weight will be given to items one and two, and all remaining criteria will be evaluated equally.

1. Overall Quality: Proposals should exhibit originality and substance, consonant with the highest standards of American teaching and scholarship. Program design should reflect the main currents as well as the debates within the subject discipline of each institute. Program elements should be coherently and thoughtfully integrated. Lectures, panels, field visits and readings, taken as a whole, should offer a balanced presentation of issues, reflecting both the continuity of the American experience as well as the diversity and dynamism inherent in it.

2. Program Planning and Administration: Proposals should demonstrate careful planning. The organization and structure of the institute should be clearly delineated and be fully responsive to all program objectives. A program syllabus (noting specific sessions and topical readings supporting each academic unit) should be included, as should a calendar of activities. The travel component should not simply be a tour, but should be an integral and substantive part of the program, reinforcing and complementing the academic segment. Proposals should provide evidence of continuous administrative and managerial capacity as well as the means by which program activities and logistical matters will be implemented.

3. Institutional Capacity: Proposed personnel, including faculty and administrative staff as well as outside presenters, should be fully qualified to achieve the project's goals. Library and meeting facilities, housing, meals, transportation and other logistical arrangements should fully meet the needs of the participants.

4. Support for Diversity: Substantive support of the Bureau's policy on diversity should be demonstrated. This can be accomplished through documentation, such as a written statement, summarizing past and/or on-going activities and efforts that further the principle of diversity within the organization and its activities. Program activities that address this issue should be highlighted.

5. Experience: Proposals should demonstrate an institutional record of successful exchange program activity, indicating the experience that the organization and its professional staff have had in working with foreign secondary school students and any experience conducting summer (or other) intensive academic programs for foreign students in this age-range.

6. Evaluation and Follow-up: A plan for evaluating activities during the Institute and at its conclusion should be included. Proposals should discuss provisions made for follow-up with returned grantees as a means of establishing longer-term individual and institutional linkages.

7. Cost Effectiveness: Proposals should maximize cost-sharing through direct institutional contributions, in-kind support, and other private sector support. Overhead and administrative components, including salaries and honoraria, should be kept as low as possible.

Authority: Overall grant making authority for this program is contained in the Mutual Educational and Cultural Exchange Act of 1961, Public Law 87-256, as amended, also known as the Fulbright-Hays Act. The purpose of the Act is “to enable the Government of the United States to increase mutual understanding between the people of the United States and the people of other countries...; to strengthen the ties which unite us with other nations by demonstrating the educational and cultural interests, developments, and achievements of the people of the United States and other nations....and thus to assist in the development of friendly, sympathetic and peaceful relations between the United States and the other countries of the world.”

Notice: The terms and conditions published in this RFP are binding and may not be modified by any Bureau representative. Explanatory information provided by the Bureau that contradicts published language will not be binding. Issuance of this RFP does not constitute an award commitment on the part of the Government. The Bureau reserves the right to reduce, revise, or increase proposal budgets in accordance with the needs of the program and the availability of funds. Awards made will be subject to periodic reporting and evaluation requirements.

Notification: Final awards cannot be made until funds have been appropriated by Congress, and allocated and committed through internal Bureau procedures.

Dated: January 23, 2004.
C. Miller Crouch,
Principal Deputy Assistant Secretary, Bureau of Educational and Cultural Affairs, U.S. Department of State.

[FR Doc. 04-1932 Filed 1-28-04; 8:45 am]

BILLING CODE 4710-11-P